DEPARTMENT OF ENERGY

Office of Energy Efficiency and Renewable Energy

Management of Energy and Water Efficiency in Federal Buildings: Availability of Guidance

AGENCY: Office of Energy Efficiency and Renewable Energy, Department of Energy.

ACTION: Notice of availability.

SUMMARY: This notice of availability announces that the U.S. Department of Energy (DOE) Office of Energy Efficiency and Renewable Energy (EERE), Federal Energy Management Program (FEMP) is soliciting public comments on a draft guidance document regarding Federal agency implementation of energy and water efficiency requirements. The draft Guidance for the Implementation and Follow-up of Identified Energy and Water Efficiency Measures in Covered Facilities (per 42 U.S.C. 8253 Subsection (f), Use of Energy and Water Efficiency Measures in Federal Buildings) is available at: http://www1.eere.energy.gov/femp/pdfs/draft_EISA_project_guidance.pdf

DATES: Comments, data, and information regarding this draft guidance must be received by December 29, 2010.

ADDRESSES: Interested parties are encouraged to submit comments to Christopher Tremper, Federal Energy Management Program, via e-mail at EISA-432-Guidance@ee.doe.gov or via mail at: Christopher Tremper, Federal Energy Management Program, EE-2L, U.S. Department of Energy; 1000 Independence Ave., SW., Washington, DC 20585. DOE encourages respondents to submit comments electronically to ensure timely receipt.

FOR FURTHER INFORMATION CONTACT: Mr. Christopher Tremper, U.S. Department of Energy Federal Energy Management Program, EE-2L, 1000 Independence Ave., SW., Washington, DC 20585, (202) 586-7632, e-mail: Chris.Tremper@ee.doe.gov. Ms. Ami Grace-Tardy, U.S. Department of Energy, Office of the General Counsel, GC-71, 1000 Independence Ave., SW., Washington, DC 20585, (202) 586-5709, e-mail: Ami.Grace-Tardy@hq.doe.gov.

SUPPLEMENTARY INFORMATION: Section 432 of the Energy Independence and Security Act of 2007 (EISA) amends section 543 of the National Energy Conservation Policy Act, by adding a new subsection that describes Federal agency facility energy and water project management and benchmarking requirements, including:

• Designate covered facilities and assign facility energy managers for ensuring compliance of covered facilities subject to the requirements;

• Conduct comprehensive energy and water evaluations;

• Implement identified efficiency measures;

• Follow-up on implemented efficiency measures;

• Deploy and use web-based tracking system for covered facilities' energy use, evaluations, projects, follow-up and analysis;

• Benchmark metered buildings that are, or part of, covered facilities; and

• Disclose Federal agency progress in evaluating covered facilities, project implementation, follow-up status, and benchmarked building performance implementation status. (42 U.S.C. 8253(f)(4))

The draft Guidance for the Implementation and Follow-up of Identified Energy and Water Efficiency Measures in Covered Facilities (per 42 U.S.C. 8253 Subsection (f), Use of Energy and Water Efficiency Measures in Federal Buildings) provides guidance to Federal agencies pertaining to the implementation of energy and water efficiency measures identified and undertaken per Section 432 of EISA (42 U.S.C. 8253(f)(4) and (5)) and details how these activities fit into the comprehensive approach to Federal agency facility energy and water management.

This draft guidance is available at: http://www1.eere.energy.gov/femp/pdfs/draft_EISA_project_guidance.pdf. DOE will accept comments, data, and information regarding the draft guidance no later than the date specified in the DATES section.

More information on DOE's FEMP is available at: http://www1.eere.energy.gov/femp/

Issued in Washington, DC, on December 10, 2010.
Dr. Timothy D. Unruh,
Program Manager, DOE-EERE Federal Energy Management Program.

[FR Doc. 2010-31467 Filed 12-14-10; 8:45 am]

BILLING CODE 6450-01-P